U.S.-CHINA ECONOMIC AND SECURITY REVIEW COMMISSION

Notice of Open Public Hearing

AGENCY: U.S.-China Economic and Security Review Commission.

ACTION: Notice of open public hearing January 26, 2017—Washington, DC.

SUMMARY: Notice is hereby given of the following hearing of the U.S.-China Economic and Security Review Commission.

ADDRESSES: Room: Dirksen Senate Office Building, Room 419. Thursday, January 26, 2017, 9:00 a.m. to 3:05 p.m. A detailed agenda for the hearing will be posted to the Commission's Web site at www.uscc.gov. Also, please check our Web site for possible changes to the hearing schedule. Reservations are not required to attend the hearing.

FOR FURTHER INFORMATION CONTACT: Any member of the public seeking further information concerning the hearing should contact Leslie Tisdale, 444 North Capitol Street NW., Suite 602, Washington DC 20001; phone: 202-624-1496, or via email at LTisdale@uscc.gov. Reservations are not required to attend the hearing.

SUPPLEMENTARY INFORMATION: Name: Carolyn Bartholomew, Chairman of the U.S.-China Economic and Security Review Commission. The Commission is mandated by Congress to investigate, assess, and report to Congress annually on “the national security implications of the economic relationship between the United States and the People's Republic of China.” Pursuant to this mandate, the Commission will hold a public hearing in Washington, DC On 1/26/2017 on “Chinese Investment in the United States: Impacts and Issues for Policymakers.”

Background: This is the first public hearing the Commission will hold during its 2017 report cycle to collect input from academic, industry, and government experts on national security implications of the U.S. bilateral trade and economic relationship with China. This hearing will explore patterns of Chinese investment in the United States and implications for U.S. policymakers. Topics that will be examined include China's increasing investments in strategic sectors, Chinese state-owned companies claiming sovereign immunity in U.S. courts, and duress acquisitions of U.S. entities by Chinese firms. The hearing will also cover the activities of Chinese companies listed on U.S. stock exchanges, assessing implications for U.S. investors and the U.S. economy at large. The hearing will be co-chaired by Commissioners Robin Cleveland and Michael Wessel. Any interested party may file a written statement by January 26, 2017, by mailing to the contact below. A portion of each panel will include a question and answer period between the Commissioners and the witnesses.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Dated: January 11, 2017
Michael Danis,
Executive Director, U.S.-China Economic and Security Review Commission.

[FR Doc. 2017-00948 Filed 1-17-17; 8:45 am]

BILLING CODE 1137-00-P